COMMISSION ON CIVIL RIGHTS

Agenda and Notice of Public Meeting of the Rhode Island Advisory Committee

Notice is hereby given, pursuant to the provisions of the rules and regulations of the U.S. Commission on Civil Rights and the Federal Advisory Committee Act, that a planning meeting and briefing meeting of the Rhode Island Advisory Committee will convene at 11 a.m. on Wednesday, May 27, 2009, at the University of Rhode Island, Feinstein Campus, 80 Washington Street, Providence, Rhode Island. The purpose of the planning meeting is for the Committee to discuss its June briefing. The purpose of the briefing meeting is to meet with the Rhode Island Roundtable to discuss the recently released “Strategic Plan” issued by the Rhode Island Police Chiefs.

Members of the public are entitled to submit written comments. The address is U.S. Commission on Civil Rights, Eastern Regional Office, 624 Ninth Street, NW., Suite 740, Washington, DC 20425. Persons wishing to e-mail their comments, present their comments at the meeting, or who desire additional information should contact Alfreda Greene, Secretary, at 202-376-7533 or by e-mail to: ero@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the rules and regulations of the Commission and FACA.

Dated in Washington, DC, May 6, 2009.
Christopher Byrnes,
Chief, Regional Programs Coordination Unit.

[FR Doc. E9-10946 Filed 5-8-09; 8:45 am]

BILLING CODE P